DEPARTMENT OF JUSTICE

Justice Management Division

[OMB Number 1103-0016]

Agency Information Collection Activities: Proposed Collection; Comments Requested: Certification of Identity

ACTION: 30-day notice.

The Department of Justice (DOJ), Justice Management Division, will be submitting the following information collection request to the Office of Management and Budget (OMB) for review and approval in accordance with the Paperwork Reduction Act of 1995. The proposed information collection is published to obtain comments from the public and affected agencies. This proposed information collected was previously published in the Federal Register Volume 78, Number 219, page 68092 on November 13, 2013, allowing for a 60-day comment period.

The purpose of this notice is to allow for an additional 30 days for public comment until February 14, 2014. This process is in accordance with 5 CFR 1320.10.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Extension of a currently approved collection.

(2) Title of the Form/Collection: Certification of Identity.

(3) Agency form number, if any, and the applicable component of the Department of Justice sponsoring the collection: Form DOJ-361. Facilities and Administrative Services Staff, Justice Management Division, U.S. Department of Justice.

(4) Affected public who will be asked or required to respond, as well as a brief abstract: Primary: American Citizens. Other: Federal Government. The information collection will be used by the Department to identify individuals requesting certain records under the Privacy Act. Without this form an individual cannot obtain the information requested.

(5) An estimate of the total number of respondents and the amount of time estimated for an average respondent to respond: It is estimated that 69,000 respondents will complete each form within approximately 30 minutes.

(6) An estimate of the total public burden (in hours) associated with the collection: There are an estimated total of 34,500 annual burden hours associated with this collection.

If additional information is required contact: Jerri Murray, Department Clearance Officer, U.S. Department of Justice, Justice Management Division, Policy and Planning Staff, Two Constitution Square, 145 N Street NE., Suite 3W-1407B, Washington, DC 20530.

Dated: January 9, 2014.
Jerri Murray,
Department Clearance Officer for PRA, U.S. Department of Justice.

[FR Doc. 2014-00493 Filed 1-14-14; 8:45 am]

BILLING CODE 4410-CW-P